SMALL BUSINESS ADMINISTRATION

Data Collection Available for Public Comments

ACTION: 60-day notice and request for comments

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before September 2, 2025.

ADDRESSES: Send all comments to Tamara Edge, Acting Chief, Disaster Loan Division, Office of Financial Assistance, Small Business Administration at 409 3rd Street SW, Washington, DC 20416 or email tamara.edge@sba.gov.

FOR FURTHER INFORMATION CONTACT: Tamara Edge, Acting Chief, Disaster Loan Division, (202) 205-6674, tamara.edge@sba.gov or Shauniece Carter, Agency Clearance Officer, (202) 205-6536, Shauniece.carter@sba.gov.

SUPPLEMENTARY INFORMATION: The SBA is required to survey affected disaster areas within a state upon request by the Governor of that state to determine if there is sufficient damage to warrant issuing a disaster declaration. Information is obtained from individuals, businesses, and government officials reporting disaster related damages.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0136.

Title: Disaster Survey Worksheet.

Description of Respondents: Individuals, businesses, and government officials reporting disaster related damages.

Form Number: SBA Form 987.

Total Estimated Annual Responses: 2,760.

Total Estimated Annual Hour Burden: 229.

Alethea Ten Eyck-Sanders,
Director, Records and Information Management Branch.

[FR Doc. 2025-12256 Filed 6-30-25; 8:45 am]

BILLING CODE 8026-09-P